DEPARTMENT OF THE TREASURY

Internal Revenue Service

26 CFR Part 1

[REG-121698-08]

RIN 1545-B100

Amendments to Section 7216 Regulations—Disclosure or Use of Information by Preparers of Returns; Hearing Cancellation

AGENCY: Internal Revenue Service (IRS), Treasury.

ACTION: Cancellation of notice of public hearing on proposed rulemaking.

SUMMARY: This document cancels a public hearing on proposed regulations that provide rules relating to the disclosure and use of tax return information by tax return preparers.

DATES: The public hearing, originally scheduled for October 6, 2008 at 10 a.m. is cancelled.

FOR FURTHER INFORMATION CONTACT: Funmi Taylor of the Publications and Regulations Branch, Legal Processing Division, Associate Chief Counsel (Procedure and Administration) at (202) 622-3628 (not a toll-free number).

SUPPLEMENTARY INFORMATION: A notice of proposed rulemaking by cross-reference to temporary regulations and a notice of public hearing that appeared in the Federal Register on Wednesday, July 2, 2008 (73 FR 37910) announced that a public hearing was scheduled for October 6, 2008, at 10 a.m. in the NYU Room (room 2615), Internal Revenue Building, 1111 Constitution Avenue, NW., Washington, DC. The subject of the public hearing is under the section 7216 of the Internal Revenue Code.

Outlines of topics to be discussed at the hearing were due on September 15, 2008. The notice of proposed rulemaking and notice of public hearing instructed those interested in testifying at the public hearing to submit a request to speak and an outline of the topics to be addressed. As of Monday, September 22, 2008, no one has requested to speak. Therefore, the public hearing scheduled for October 6, 2008 is cancelled.

LaNita Van Dyke,
Chief, Publications and Regulations Branch, Legal Processing Division, Associate Chief Counsel (Procedure and Administration).

[FR Doc. E8-22824 Filed 9-26-08; 8:45 am]

BILLING CODE 4830-01-P